NUCLEAR REGULATORY COMMISSION

[DOCKET NO. 50-238; NRC-2009-0019]

Nuclear Ship Savannah; Notice of Public Meeting on the Post Shutdown Decommissioning Activities Report

AGENCY: U.S. Nuclear Regulatory Commission (NRC).

ACTION: Notice of meeting on the Post Shutdown Decommissioning Activities Report (PSDAR) for the Nuclear Ship Savannah (NS Savannah), Facility Operating License No. NS-1.

Contact: John T. Buckley, Division of Waste Management and Environmental Protection, Office of Federal and State Materials and Environmental Management Programs, U.S. Nuclear Regulatory Commission, Washington, DC 20555-0001, Telephone: 301-415-6607 or Toll Free: 800-368-5642, x-6607, or e-mail john.buckley@nrc.gov.

SUMMARY: The NRC is providing notice that the NRC staff will conduct a meeting to discuss and accept comments on the PSDAR for the NS Savannah on March 11, 2009, from 7 p.m. to 9 p.m. The meeting will be held on-board the NS Savannah located at Pier 13, Canton Marine Terminal, 4601 Newgate Ave., Baltimore, MD 21224.

On December 11, 2008, the U.S. Department of Transportation—Maritime Administration (MARAD) submitted its PSDAR for the NS Savannah. The PSDAR provides an overview of MARAD's proposed decommissioning activities, schedule, and costs for the NS Savannah.

The NS Savannah was brought to power in 1961 and removed from service in 1970. Final reactor shutdown occurred in November 1970 and defueling was completed in fall 1971. In 1975 the NS Savannah was “mothballed.” NRC issued a “possession—only” license for the NS Savannah in 1976. The NS Savannah was in a mothballed status from 1976 to 2006. In 2006, MARAD made the decision to place the ship in extended SAFSTOR until the budget could support decommissioning and license termination. MARAD submitted the PSDAR as part of its SAFSTOR compliance program.

Further Information: The PSDAR is available for public viewing at the NRC's Public Document Room (PDR) or electronically through the NRC's Agencywide Documents Access and Management System (ADAMS) with Accession No. ML083500100. Documents may also be examined, and/or copied for a fee, at the PDR, located at One White Flint North, 11555 Rockville Pike (first floor), Rockville, Maryland. Publicly available records will be accessible electronically from the ADAMS Public Library component on the NRC Web site, http://www.nrc.gov (the Public Electronic Reading Room).

Persons who do not have access to ADAMS or who encounter problems in accessing the documents located in ADAMS should contact the NRC PDR Reference staff by telephone at 1 (800) 397-4209, or (301) 415-4737, or by e-mail at pdr.resource@nrc.gov.

Dated at Rockville, Maryland, this 17th day of February 2009.
For the U.S. Nuclear Regulatory Commission
Timothy O'Hara,
Chief, Reactor Decommissioning Branch, Decommissioning and Uranium Recovery Licensing Directorate, Division of Waste Management and Environmental Protection, Office of Federal and State Materials and Environmental Management Programs.

[FR Doc. E9-3749 Filed 2-20-09; 8:45 am]

BILLING CODE 7590-01-P